DEPARTMENT OF ENERGY

Federal Energy Regulatory Commission

[Docket No. RP01-625-000]

Dominion Transmission, Inc.; Notice of Annual Electric Power Cost Adjustment

October 4, 2001.

Take notice that on September 28, 2001, Dominion Transmission Inc. (DTI) tendered for filing for inclusion in its FERC Gas Tariff, Third Revised Volume No. 1, the following revised tariff sheets, with an effective date of November 1, 2001:

Ninth Revised Sheet No. 31

Twelfth Revised Sheet No. 32

Seventh Revised Sheet No. 33

Sixth Revised Sheet No. 34

Eighth Revised Sheet No. 35

DTI states that the purpose of its filing is to comply with the Electric Power Cost Adjustment provision of the General Terms and Conditions of its FERC Gas Tariff, as that provision will be revised effective November 1, 2001, in accordance with the Stipulation and Agreement filed on June 22, 2001, in Docket No. RP00-632-003, and approved by Commission letter order issued in that proceeding on September 13, 2001.

DTI states that copies of the filing have been sent to DTI's customers and interested stated commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25523 Filed 10-10-01; 8:45 am]

BILLING CODE 6717-01-P